DEPARTMENT OF TRANSPORTATION

Office of the Secretary

Notice of Applications for Certificates of Public Convenience and Necessity and Foreign Air Carrier Permits Filed Under Subpart B (formerly Subpart Q) During the Week Ending November 8, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0321.

Date Filed: November 3, 2008.

Due Date for Answers, Conforming Applications, or Motion to Modify Scope: November 24, 2008.

Description: Application of Comlux Malta Ltd. requesting an exemption and a foreign air carrier permit to conduct: (i) Foreign charter air transportation of persons, property and mail from any point or points behind any Member State of the European Union, via any point or points in any EU Member State and via intermediate points, to any point or points in the United States and beyond; (ii) foreign charter air transportation of persons, property and mail between any point or points in the United States and any point or points in any member of the European Common Aviation Area; (iii) foreign charter air transportation of cargo between any point or points in the United States and any other point or points; (iv) other charters pursuant to prior approval requirements; and (v) charter transportation authorized by any additional route rights made available to European Community carriers in the future, to the extent permitted by Comlux Malta's homeland license on file with the Department.

Docket Number: DOT-OST-2008-0339.

Date Filed: Novmber 7, 2008.

Due Date for Answers, Conforming Applications, or Motion to Modify Scope: November 28, 2008.

Description: Application of Paragon Air Express, Inc. requesting authority to conduct scheduled passenger operations as a commuter air carrier.

Renee V. Wright,
Program Manager, Docket Operations, Federal Register Liaison.

[FR Doc. E8-30929 Filed 12-29-08; 8:45 am]

BILLING CODE 4910-9X-P